DEPARTMENT OF THE INTERIOR

Bureau of Reclamation

Colusa Basin Drainage District's Integrated Resources Management Program for Flood Control in the Colusa Basin in Glenn, Colusa, and Yolo Counties, CA

AGENCY: Bureau of Reclamation, Interior.

ACTION: Notice of availability of the Final Programmatic Environmental Impact Statement/Final Programmatic Environmental Impact Report (Final PEIS/PEIR).

SUMMARY: Pursuant to the National Environmental Policy Act and the California Environmental Quality Act, the Bureau of Reclamation (Reclamation) and the Colusa Basin Drainage District (District) have prepared a joint Final PEIS/PEIR for the Integrated Resources Management Program for Flood Control in the Colusa Basin (Program). The Program is comprised of three elements: Construction of a series of flood detention dams and basins on selected ephemeral streams that cause flooding in the Basin; implementation of several upland, riparian, and wetland environmental restoration measures that will help reduce soil erosion and sedimentation and restore degraded habitat; and development of a water supply that could be used for environmental purposes. The Final PEIS/PEIR describes and presents the potential environmental effects of the three Program elements. Notice of the Draft Programmatic Environmental Impact Statement/Draft Environmental Impact Report (DEIS/DEIR) was published in the Federal Register on June 2, 2000 (65 FR 35392). The public hearing was held on August 9, 2000. The written comment period ended August 25, 2000. The Final PEIS/PEIR contains responses to all comments received and changes made to the text of the DEIS/DEIR as a result of those comments.

DATES: Reclamation will not make a decision on the proposed action until 30 days after release of the Final PEIS/PEIR. After the 30-day waiting period, Reclamation will complete a Record of Decision (ROD). The ROD will state the action that will be implemented and will discuss all factors leading to the decision.

ADDRESSES: Copies of the Final PEIS/PEIR may be requested from Ms. Gaye Lopez, Colusa Basin Drainage District, at 530-795-3038, or Mr. Russ Smith, Reclamation, at 530-275-1554.

See Supplementary Information section for locations where copies of the Final PEIS/PEIR are available for public inspection.

FOR FURTHER INFORMATION CONTACT: Ms. Gaye Lopez, Colusa Basin Drainage District, at 530-795-3038, or Mr. Russ Smith, Reclamation, at 530-275-1554.

SUPPLEMENTARY INFORMATION: The Program encompasses an area of about 1,036,000 acres within the Basin, extending from Orland in the north to Knights Landing in the south, and includes lands in Glenn, Colusa, and Yolo Counties. The Sacramento River and Coastal Range foothills form its eastern and western boundaries, respectively. Within this area, the District encompasses about 650,000 acres.

The proposed action is to construct flood detention dams and basins on certain ephemeral streams in the foothills west of the Basin that cause the greatest flood damage. Reclamation and the District also propose to implement approximately 10,000 acres of environmental restoration measures to help restore degraded upland, riparian, and wetland habitats in the project area. In addition, the detention basins could provide a water supply that could be used for environmental purposes.

The goal of the Program is to substantially reduce flood damages and restore upland, riparian, and wetland habitats that have been historically degraded in the Colusa Basin. In addition to a No Program Alternative, which involves the continued use of the existing Colusa Basin Drain for drainage management and inadequate flood flow conveyance, six program alternatives are examined. Alternatives la, 2a, and 3a include the proposed construction of 14, 8, and 5 foothill flood detention dams and reservoirs, respectively, and about 10,000 acres of upland, riparian, and wetland restoration measures in the Colusa Basin. Alternatives lb, 2b, and 3b include all the elements of Alternatives la, 2a, and 3a, respectively, and would also be operated to provide a water supply that could be used for environmental purposes, including the dedication of some reservoir space for water storage.

Copies of the Final PEIS/PEIR are available for public inspection at the following locations:

• Bureau of Reclamation, Denver Office Library, Building 67, Room 167, Denver Federal Center, 6 and Kipling, Denver CO 80225; telephone: 303-445-2064

• Bureau of Reclamation, Office of Public Affairs, 2800 Cottage Way, Sacramento CA 95825-1898; telephone: 916-978-5100

• Natural Resources Library, U.S. Department of the Interior, 1849 C Street NW, Main Interior Building, Washington DC 20240-0001

• Sacramento State University Library, 6000 J Street, Sacramento CA 95521

• Princeton Public Library, P.O. Box 97, Princeton CA 95970-0097

• Elk Creek Library, Box 163, Elk Creek CA 95939-0163

• Bayliss Library, Rd 39 and West Bayliss, Bayliss CA 95943

• Willows City Library, 201 N. Lassen Street, Willows CA 95988

• Yolo County Library, 373 N. College, Woodland CA 95695

• Grimes Library, P.O. Box 275, Grimes CA 95950

• Orland City Library, 333 Mill Street, Orland CA 95963

• Shasta College Library, 1065 Old Oregon Trail, Redding, CA 96099

• Arbuckle Library, 7th & King, Arbuckle, CA 95912

• Butte Community College Library, 3536 Butte Campus Drive, Oroville, CA 95965

• Campus Library, Humboldt State University, Arcata, CA 95521

• Esparto Branch Library, 17155 Yolo Avenue, Esparto, CA 95627

• Willows Public Library, 201 North Lassen Street, Willows, CA 94988

• Shields Library, University of California-Davis, Davis, CA 95616

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: June 29, 2001.
Lowell F. Ploss,
Deputy Regional Director.

[FR Doc. 01-18044 Filed 7-18-01; 8:45 am]

BILLING CODE 4310-MN-P